FEDERAL MEDIATION AND CONCILIATION SERVICE

Training Evaluation

AGENCY: Federal Mediation and Conciliation Service (FMCS).

ACTION: 60-Day notice and request for comments.

SUMMARY: FMCS requests evaluations from clients to create tailored training as well as post-training evaluations to continue to provide world-class training to all sectors.

DATES: Comments must be submitted on or before December 19, 2022.

ADDRESSES: You may submit comments, identified by Training Evaluation, through one of the following methods:

• Email: register@fmcs.gov;

• Mail: Office of the General Counsel, One Independence Square, 250 E St. SW, Washington, DC 20427. Please note that at this time, mail is sometimes delayed. Therefore, we encourage emailed comments.

FOR FURTHER INFORMATION CONTACT: Krystil Smith, ksmith@fmcs.gov, 202-606-5137.

SUPPLEMENTARY INFORMATION: Copies of the agency questions are available here.

I. Information Collection Request

Agency: Federal Mediation and Conciliation Service.

Form Number: Not yet assigned.

Type of Request: New Collection.

Affected Entities: Federal government, households and individuals, private sector (private sector, not-for-profit institutions), state and local governments.

Frequency: All affected entities are requested to complete the information collection on occasion. The information collection takes approximately 2 minutes to complete.

Abstract: FMCS provides training services to minimize workplace conflict. To continue to provide the best training, FMCS needs to solicit feedback on its training services.

Burden: We expect to solicit 1,500 information collections annually, with an estimated 2 minutes for completion. We expect a response rate of 35%. The respondent is asked to respond on occasion (before or after the training). Therefore, the estimated burden is 1,050 minutes.

II. Request for Comments

FMCS solicits comments to:

i. Evaluate whether the proposed collections of information are necessary for the proper performance of the functions of the agency, including whether the information will have practical utility.

ii. Enhance the accuracy of the agency's estimates of the burden of the proposed collection of information.

iii. Enhance the quality, utility, and clarity of the information to be collected.

iv. Minimize the burden of the collections of information on those who are to respond, including the use of appropriate automated, electronic collection technologies or other forms of information technology.

III. The Official Record

The official records are both electronic and paper records.

List of Subjects

Labor-Management Relations.

Dated: October 14, 2022.
Alisa Zimmerman,
Acting General Counsel.

[FR Doc. 2022-22729 Filed 10-19-22; 8:45 am]

BILLING CODE 6732-01-P